FEDERAL TRADE COMMISSION

Granting of Request for Early Termination of the Waiting Period Under the Premerger Notification Rules

Section 7A of the Clayton Act, 15 U.S.C. § 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the permerger notification rules. The grants were made by the Federal Trade Commission and the Assistant Attorney General for the Antitrust Division of the Department of Justice. Neither agency intends to take any action with respect to these proposed acquisitions during the applicable waiting period.

Transactions Granted Early Termination 09/05/2000-09/15/2000
Transaction No. | Acquiring | Acquired | Entities
Transactions Granted Early Termination—09/05/2000
20004539 | Community Newspapers, Inc., a South Carolina corporation | New York Times Company (The) | NYT Florida Holdings, Inc.
20004576 | Private Equity Investors IV, L.P | NT Corporation | NT Corporation.
20004577 | The 1818 Fund III, L.P | NT Corporation | NT Corporation.
20004578 | Wind Point Partners IV, L.P | NT Corporation | NT Corporation.
20004595 | California Physicians' Service | UnitedHealth Group Incorporated | United Healthcare Insurance Company.
|  |  | United Healthcare of California, Inc.
|  |  | UnitedHealth Networks, Inc.
20004600 | Siebel Systems, Inc | Sierra Ventures VI, L.P | OnLink Technologies, Inc.
20004604 | Rodney L. Grimm Stock Trust | Daniel C. & Susie G. Duncan | Healthy Fresh, Inc./Organic Choice, LLC.
|  |  | Tri-Duncan Farms.
20004605 | Robert A. Grimm Stock Trust | Daniel C. & Susie G. Duncan | Healthy Fresh, Inc./Organic Choice, LLC.
|  |  | Tri-Duncan Farms.
20004609 | Rodney L. Grimm Stock Trust | Michael B. & Jennifer D. Duncan | Healthy Fresh, Inc./Organic Choice, LLC.
20004610 | Robert A. Grimm Stock Trust | Michael B. & Jennifer D. Duncan | Healthy Fresh, Inc./Organic Choice, LLC.
|  |  | Organic Choice, LLC.
20004649 | TSG3 L.P | Buyco, Inc | Mauna Loa Macadamia Nut Corporation.
20004672 | Warburg, Pincus Equity Partners, L.P | Phycom Corporation | Phycom Corporation.
20004704 | Bill Gross | Paytru$t, Inc | Paytru$t, Inc.
Transactions Granted Early Termination—09/06/2000
20004487 | VantagePoint Communications Partners, L.P | Aerie Networks, Inc | Aerie Networks, Inc.
20004582 | Aventis | Aventis | Carderm Capital, L.P.
20004592 | Voting Trust dated December 4, 1968 of v/s of Hallmark Cards | Voting Trust dated December 4, 1968 of v/s of Hallmark Cards | Odyessey Holdings, LLC.
20004611 | Deutsche Bank AG | Trust u/w Frederick C. Wappler, dec'd | Sebec Securities, Inc.
20004615 | The Boeing Company | Tribune Company | Jeppesen GmbH.
|  |  | Jeppesen Sanderson, Inc., Jeppesen UK Limited.
20004636 | PeopleFirst.com Inc | DaimlerChrysler AG | giggo.com, inc.
20004637 | DaimlerChrysler AG | PeopleFirst.com Inc | PeopleFirst.com Inc.
20004638 | McDonald's Corporation | eMac Digital Corporation | eMac Digital Corporation.
20004639 | Accel-AKI Ivestors, L.L.C | eMac Digital Corporation | eMac Digital Corporation.
20004647 | General Motors Corporation | First Citizens BancShares, Inc | First-Citizens Bank & Trust Company.
20004650 | American Capital Strategies, Ltd | Intermet Corporation | Iowa Mold Tooling Co., Inc.
20004657 | Aya and Ofer Azielant | Colin Horowitz | I. Kurgan & Co., Inc. a California corporation.
20004659 | Crescendo IV, L.P | Relera, Inc | Relera, Inc.
20004661 | Koch Industries Inc | Gordon-Piatt Energy Group, Inc | Gordon-Piatt Energy Group, Inc.
20004662 | Sodexho Alliance, S.A | Prison Realty Trust, Inc | Prison Realty Trust, Inc.
20004665 | M. Francois Pinault | Westburne Inc | Westburne Inc.
20004666 | Uproar Inc | iwin.com, Inc | iwin.com,Inc.
20004667 | Frederick R. Krueger | Uproar Inc | Uproar Inc.
20004670 | Kuoni Reisen Holding AG | Mr. Kerrin M. Behrend | T PRO, Inc.
20004673 | Bank Of America Corporation | RELERA, Inc | RELERA, Inc.
20004676 | Station Casinos, Inc | Trust # 1 of George J. Maloof, Sept. 1, 1978 | Fiesta Hotel & Casino.
20004679 | Hanny Holdings Limited | Scott A. Blum Separate Property Trust U/D/T 8/2/95 | eDevelopments.com Inc.
20004684 | The Lamson & Sessions Co | Pyramid Industries, Inc | Pyramid Industries, Inc.
20004685 | Human Genome Sciences, Inc | HealthCare Ventures V, L.P | Principia Pharmaceutical Corporation.
20004688 | Bank of New York Company, Inc., (The) | Howard Wohl | Ivy Asset Management Corp.
20004690 | Larry Van Tuyl | Frank M. Late | Midway Chevrolet Company.
|  |  | Midway Holdings, Inc.
|  |  | Midwest Unlimited, Inc.
20004691 | Grover C. Coors Trust | Graphic Packaging International Corporation | Graphic Packaging International Corporation.
20004696 | Littlejohn Fund II, L.P | Pameco Corporation | Pameco Corporation.
20004701 | Sun Microsystems, Inc | Resonate Inc | Resonate Inc.
20004707 | Sanmina Corporation | Lucent Technologies, Inc | Octel Communications Corporation.
20004709 | Penton Media, Inc | Duke Communications International, L.L.L.P | Duke Communications International, L.L.L.P.
20004746 | Intertape Polymer Group Inc | A. Dennis Murphy | Olympian Tape Sales, Inc.
Transactions Granted Early Termination—09/07/2000
20004712 | Critical Path, Inc | PeerLogic, Inc | PeerLogic, Inc.
Transactions Granted Early Termination—09/08/2000
20004099 | Kenneth R. Thomson | David Geliebter | The Carson Group, Inc.
20004332 | Castle Harlan Partners II, L.P | David Dunn | Advance Tool, Inc.
20004408 | ALLTEL Corporation | SBC Communications Inc | Radiofone, Inc.
20004411 | Triad Hospitals, Inc | Charterhouse Equity Partners II, L.P | NetCare Health Systems, Inc.
20004612 | WPS Resources Corporation | Wisconsin Fuel & Light Company | Wisconsin Fuel & Light Company.
20004616 | Navidec, Inc | CarPoint, Inc | CarPoint, Inc.
20004617 | Wells Fargo & Company | CarPoint, Inc | CarPoint, Inc.
20004618 | Microsoft Corporation | CarPoint, Inc | CarPoint, Inc.
20004626 | Dynegy Inc | Extant, Inc | Extant, Inc.
20004627 | Lawrence A. McLernon | Dynegy Inc | Dynegy Inc.
20004640 | KKR-AKI Investors, L.L.C | eMac Digital Corporation | eMac Digital Corporation.
20004646 | Aether Systems, Inc | Cerulean Technology, Inc | Cerulean Technology, Inc.
20004648 | Hologic, Inc | Thermo Electron Corporation | Trex Medical Corporation.
20004653 | Bouygues S.A | Gordon P. Hayes, Jr | Aggregate Products, Inc., aan Alaska corporation.
|  |  | Hayden & Hayes Company, an Alaska General Partnership.
|  |  | Quality Asphalt Paving, Inc., an Alaska corporation.
20004664 | New Enterprise Associates VIII, L.P | Intira Corporation | Intira Corporation.
20004668 | Crosspoint Venture Partner 2000 Q LP | Petrocosm Corporation | Petrocosm Corporation.
20004680 | Northern Border Partners, L.P | Enron Corp. | Enron North America Corp.
20004702 | Toshiba Corporation | General Electric Company | General Electric Company.
20004703 | AXA | InFlow, Inc | InFlow, Inc.
20004708 | Sinclair Broadcast Group, Inc | Milton Grant | Grant Television Inc., Grant Television II LLC.
20004713 | Berwind Group Partners | Bruce Garland | Priority Air Express, Inc., PAX Network Inc.
20004723 | CVS Corporation | Hubert G. Phipps | Fedco Drugs, Inc.
20004724 | Kellwood Company | Richard L. Golden | Dorby Frocks, Ltd.
20004725 | Coca-Cola Enterprises Inc | J. Frank Harrison, Jr | Coca-Cola Bottling Co. of Roanoke, Inc.
|  |  | ROBC, Inc., WVBC, Inc.
|  |  | The Coca-Cola Bottling Co. of West Virginia, Inc.
20004726 | MBNA Corporation | First Union Corporation | First Union Direct Bank, N.A.
|  |  | First Union National Bank.
20004728 | William Blair Capital Partners V, L.P | Wyndham Travel Holding, Inc | Wyndham Travel Holding, Inc.
20004729 | U.S. Bancorp | Marvin M. Schwan Great Grandchildren's Trust | Lyon Financial Services, Inc.
20004737 | Koninklijke Philips Electronics N.V | Optiva Corporation | Optiva Corporation.
20004739 | TransCanada PipeLines Limited | TransCanada PipeLines Limited | Ocean State Power.
|  |  | Ocean State Power II.
20004740 | Linc.net, Inc | Telpro Technologies, Inc | Telpro Technologies, Inc.
20004742 | Penn National Gaming, Inc | CRC Holdings, Inc | CRC Holdings, Inc.
20004744 | Corning Incorporated | James F. Moore | Champion Products, Inc.
20004747 | The Home Depot, Inc | NCH Corporation | N-E Thing Supply Company, Inc.
Transactions Granted Early Termination—09/11/2000
20003681 | Ford Motor Company | Covisint | Covisint.
20003682 | General Motors Corporation | Covisint | Covisint.
20003683 | Daimler-Chrysler AG | Covisint | Covisint.
20003684 | Renault SA | Covisint | Covisint.
20003685 | Nissan Motor Co., Ltd | Covisint | Covisint.
20003686 | Oracle Corporation | Covisint | Covisint.
20003687 | Commerce One, Inc | Covisint | Covisint.
20004663 | Chase Manhattan Corporation, (The) | Intira Corporation | Intira Corporation.
20004678 | Zurich Allied AG | GE—Zurich Warranty Management, Inc | GE-Zurich Warranty Management, Inc.
20004697 | medibuy.com, Inc | HCA—The Healthcare Company | BNA Associates, Inc.
20004714 | Royal Dutch Petroleum Company | InterGen N.V | InterGen N.V.
20004715 | Bechtel Group, Inc | InterGen N.V | InterGen N.V.
20004760 | Stonington Capital Appreciation 1994 Fund, L.P | GSI Lumonics, Inc | GSI Lumonics Life Science Trust.
Transactions Granted Early Termination—09/12/2000
20004516 | Marshall W. Pagon | Northeast Oklahoma Electric Cooperative | Northeast Rural Services, Inc.
20004698 | HCA—The Healthcare Company | medibuy.com, Inc | medibuy.com, Inc.
20004710 | HCA—The Healthcare Company | BNA Associates, Inc | BNA Associates, Inc.
20004720 | Hellman & Friedman Capital Partners III, L.P | Heath Thompson | ThoughtMill Corporation.
20004721 | Heath Thompson | Hellman & Friedman Capital Partners III, L.P | Digitas, Inc.
20004731 | Crescendo III, L.P | Innuity, Inc | Innuity, Inc.
20004732 | Marathon Fund Limited Partnership IV | Thermo Electron Corporation | Thermo Analytical Inc.
20004738 | Hanover Compressor Company | OEC Compression Company | OEC Compression Company.
20004750 | Consolidated Engineering Services Partnership | Alan L. Barnes, Sr | Aircond Corporation.
20004854 | W.M. Hawkins, III | The 3DD Company | The 3DD Company.
20004855 | Thomas Jefferson University | Will of James Wills | Wills Eye Hospital.
20004856 | Sabre Holdings Corporation | GetThere Inc | GetThere Inc.
20004857 | Rocco B. Commisso | Satelite Cable Services, Inc | Satelite Cable Services, Inc.
20004861 | AutoNation, Inc | James B. Bryan, III | JBH of Longwood, Inc. d/b/a Jimmy Bryan Honda.
|  |  | Jimmy Bryan Toyota, Inc. d/b/a Jimmy Bryan Toyota.
20004874 | Internet Capital Group, Inc | CommerceQuest, Inc | CommerceQuest, Inc.
20004876 | Internet Capital Group, Inc | Newco | Newco.
Transactions Granted Early Termination—09/13/2000
20004700 | Wind Point Partners IV, L.P | J.F. Lehman Equity Investors, I, L.P | McCormick Selph Holdings, Inc.
|  |  | Scot Incorporated.
Transactions Granted Early Termination—09/14/2000
20004456 | Haemonetics Corporation | Transfusion Technologies Corporation | Transfusion Technologies Corporation.
20004711 | Western Wireless Corporation | Centennial Communications Corp | Centennial Communications Corp.
20004776 | Wolverine Tube, Inc | Engelhard Corporation | Engelhard Corporation.
20004786 | Royal Bank of Canada | AMRESCO, INC. | AMRESCO Builders Group, Inc.
|  |  | AMRESCO Commercial Finance, Inc.
20004787 | Toshiba Corporation | Harison Electric Company, Ltd | Harison Electric Company, Ltd.
20004789 | Lou L. Pai | TNPC, Inc | TNPC, Inc., a Delaware corporation.
20004790 | Wind Point Partners III, L.P | SPX Corporation | Metal Forge Company, Inc.
|  |  | MF Development Corporation.
20004791 | American Manufacturing Corporation | Samuel J. Heyman | LL Building Products Inc.
20004804 | Nortel Networks Corporation | Sonoma Systems | Sonoma Systems.
20004807 | Aon Corporation | ASA Acquisition Corp. | ASA Acquisition Corp.
20004809 | Asbury Automotive Group, L.L.C | Charles D. Troncalli | Troncalli Jaguar, Inc.
20004811 | West Florida Medical Center Clinic, a Florida prof assoc | PhyCor, Inc., a Tennessee corporation | PhyCor of Pensacola, Inc.
20004814 | AAR Corp | Honeywell International Inc | Hermetic Aircraft International Corp.
20004815 | Spectrum Equity Investors III, L.P | Intira Corporation | Intira Corporation.
20004816 | Mayfield X, L.P | Intira Corporation | Intira Corporation.
20004817 | SPX Corporation | CVI Holding Corporation | Copes-Vulcan, Inc., Copes-Vulcan, Limited.
Transactions Granted Early Termination—09/15/2000
20003123 | SBC Communications Inc | BellSouth Corporation | BellSouth Corporation.
20004541 | First Reserve Fund VIII, L.P | Chicago Bridge & Iron Company N.V | Chicago Bridge & Iron Company N.V.
2004587 | Pikington plc | Newco | Newco.
20004622 | Bell Atlantic Corporation d/b/a Verizon Communications | James A. Otterbeck | OnePoint Communications Corp.
20004687 | Bank of New York Company, Inc., (The) | Lawrence Simon | Ivy Asset Management Corp.
20004692 | General Motors Corporation | HomeAdvisor Technologies, Inc | HomeAdvisor Technologies, Inc.
20004693 | The Chase Manhattan Corporation | HomeAdvisor Technologies, Inc | HomeAdvisor Technologies, Inc.
20004694 | Microsoft Corporation | HomeAdvisor Technologies, Inc | HomeAdvisor Technologies, Inc.
20004788 | DLJ Merchant Banking Partners, II, L.P | TNPC, Inc | TNPC, Inc., a Delaware corporation.
20004793 | PG&E Corporation | Duke Energy Corporation | Duke Energy Corporation.
20004799 | Edward M. Philip | Telefonica S.A | Terra Networks, S.A.
20004800 | Robert J. Davis | Telefonica S.A | Terra Networks, S.A.
20004812 | Telephone and Data System, Inc. Voting Trust | Telephone and Data Systems, Inc. Voting Trust | Oregon RSA No. 3 Limited Partnership.
20004877 | Edward L. Maletis Childrens Trust | Gary P. Raden, SR | G. Raden & Sons, Inc.

For Further Information Contact: Sandra M. Peay or Parcellena P. Fielding, Contact Representatives, Federal Trade Commission Premerger Notification Office, Bureau of Competition, Room 303, Washington, DC 20580; (202) 326-3100.

By Direction of the Commission.
Donald S. Clark,
Secretary.

[FR Doc. 00-26343 Filed 10-12-00; 8:45 am]

BILLING CODE 6750-01-M